DEPARTMENT OF TRANSPORTATION

Federal Aviation Administration

14 CFR Part 39

[Docket No. FAA-2012-0185; Directorate Identifier 2011-NM-001-AD; Amendment 39-17143; AD 2012-15-14]

RIN 2120-AA64

Airworthiness Directives; Airbus Airplanes

AGENCY: Federal Aviation Administration (FAA), Department of Transportation (DOT).

ACTION: Final rule.

SUMMARY: We are adopting a new airworthiness directive (AD) for certain Airbus Model A300 B4-103, B4-203, and B4-2C airplanes, and Model A300 B4-600, B4-600R, and F4-600R series airplanes, and Model A300 C4-605R Variant F airplanes (collectively called A300-600 series airplanes). This AD was prompted by reports of cracking in the forward lug of the main landing gear (MLG) rib 5 aft bearing attachment. This AD requires repetitive inspections for cracking of the left-hand (LH) and right-hand (RH) wing MLG rib 5 aft bearing forward lugs, and repair if necessary. We are issuing this AD to detect and correct cracking of the LH and RH wing MLG rib 5 aft bearing forward lugs, which could affect the structural integrity of the MLG attachment, resulting in MLG collapse during landing or rollout with consequent damage to the airplane and injury to occupants.

DATES: This AD becomes effective September 11, 2012.

The Director of the Federal Register approved the incorporation by reference of certain publications listed in this AD as of September 11, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on February 28, 2012 (77 FR 11793). That NPRM proposed to correct an unsafe condition for the specified products. The MCAI states:

During routine visual inspection, a crack has been found in the wing MLG [main landing gear] rib 5 aft bearing forward lug on two A310 in-service aeroplanes. Laboratory examination of cracked ribs confirmed that the crack was due to the presence of pitting corrosion in the forward lug hole. Also on both aeroplanes medium to heavy corrosion was found in the forward lugs on the opposite wing after removal of the bushes. Similarly to A310 aeroplanes, A300 and A300-600 aeroplanes are concerned by this situation which, if not detected, could affect the structural integrity of the MLG attachment.

The aim of the [EASA] Emergency Airworthiness Directive (EAD) 2006-0372-E [which corresponds to FAA AD 2007-03-18, Amendment 39-14929 (72 FR 5919, February 8, 2007)] was to mandate, for A300 and A300-600 aeroplanes, repetitive detailed visual inspections (DVI) of wing MLG rib 5 aft bearing forward lugs for detection of through cracks.

Since then, in order to ensure the detection of any crack in the forward lug of the RH [right-hand] and LH [left-hand] MLG rib 5 aft bearing attachment at an early stage, Airbus has developed a new inspection by means of ultrasonic method. Due to the early crack detection possibility, this new means of inspection also enables extension of the inspection interval.

For technical reasons, this new means of inspection is only applicable to A300B4, C4, and F4 and A300-600 aeroplane series (not to A300B2 aeroplane series).

For these reasons, this new [EASA] AD * * * adds new inspection program requirements [a revised detailed inspection, optional ultrasonic inspections, and repair if necessary].

As an option, a modification, which includes installing bushings with an increased interference fit in the aft bearing forward lugs, terminates the repetitive inspections. You may obtain further information by examining the MCAI in the AD docket.

Comments

We gave the public the opportunity to participate in developing this AD. We considered the comments received.

Request To Refer to Revised Service Bulletin

UPS requested that we revise the NPRM (77 FR 11793, February 28, 2012) to refer to Airbus Mandatory Service Bulletin A300-57-6106, Revision 03, dated January 26, 2012. UPS pointed out that this revised service bulletin provides a new repair drawing that supersedes a previous repair drawing.

We agree. We have changed paragraphs (j) and (o) of this AD to refer to Airbus Mandatory Service Bulletin A300-57-6106, Revision 03, dated January 26, 2012. We have also added paragraph (m)(5) to this AD to give credit for actions done before the effective date of this AD using Airbus Service Bulletin A300-57-6106, Revision 02, dated June 18, 2010.

Request To Change Paragraph Reference for Terminating Action

UPS stated that paragraph (k) of the NPRM (77 FR 11793, February 28, 2012) provides terminating action to AD 2007-03-18, Amendment 39-14929 (72 FR 5919, February 8, 2007), by doing the inspections called out in paragraph (g) of the NPRM. UPS stated that the reference for the terminating action for the repetitive inspections of this NPRM and for AD 2007-03-18 should be paragraph (j) of the NPRM.

We agree that paragraph (k) of this AD should refer to paragraph (j), not paragraph (g), of this AD for the terminating modification. Paragraph (k) of this AD has been changed to refer to paragraph (j) of this AD.

Request To Specify Terminating Action for Related AD

UPS requested that we refer to Airbus Mandatory Service Bulletin A300-57-6106, Revision 03, dated January 26, 2012, which clarifies that the terminating action for the repetitive inspections includes replacing the bushings. UPS also requested that the same reference be included in a related NPRM (Docket No. FAA-2011-1225, Directorate Identifier 2010-NM-269-AD).

We agree that the terminating action should include replacing the bushings, which is clarified in Airbus Mandatory Service Bulletin A300-57-6106, Revision 03, dated January 26, 2012. As stated previously, we have changed paragraph (j) of this AD to refer to Airbus Mandatory Service Bulletin A300-57-6106, Revision 03, dated January 26, 2012. No further change to this AD is necessary.

Directorate Identifier 2010-NM-269-AD, has been issued as AD 2012-08-03, Amendment 39-17019 (77 FR 24367, April 24, 2012), and refers to Airbus Mandatory Service Bulletin A300-57-6106, Revision 03, dated January 26, 2012, for the terminating action.

Other Change Made To This AD

We have revised paragraph (m) of this AD to refer to paragraph (j) of this AD instead of paragraph (g) of this AD.

Conclusion

We reviewed the available data, including the comments received, and determined that air safety and the public interest require adopting the AD with the changes described previously and minor editorial changes. We have determined that these changes:

• Are consistent with the intent that was proposed in the NPRM (77 FR 11793, February 28, 2012) for correcting the unsafe condition; and

• Do not add any additional burden upon the public than was already proposed in the NPRM (77 FR 11793, February 28, 2012).

Costs of Compliance

We estimate that this AD will affect 165 products of U.S. registry. We also estimate that it will take about 3 work-hours per product to comply with the basic requirements of this AD. The average labor rate is $85 per work-hour. Based on these figures, we estimate the cost of this AD to the U.S. operators to be $42,075, or $255 per product.

In addition, we estimate that any necessary follow-on actions would take about 52 work-hours and require parts costing $4,590, for a cost of $9,010 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 11793, February 28, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-15-14 Airbus: Amendment 39-17143. Docket No. FAA-2012-0185; Directorate Identifier 2011-NM-001-AD.

(a) Effective Date

This airworthiness directive (AD) becomes effective September 11, 2012.

(b) Affected ADs

This AD affects AD 2007-03-18, Amendment 39-14929 (72 FR 5919, February 8, 2007).

(c) Applicability

This AD applies to Airbus Model A300 B4-2C, B4-103, and B4-203 airplanes; Model B4-601, B4-603, B4-620, B4-622, B4-605R, B4-622R, F4-605R, and F4-622R airplanes; and Model A300 C4-605R Variant F airplanes; certificated in any category; all serial numbers except for airplanes identified in paragraphs (c)(1), (c)(2), and (c)(3) of this AD.

(1) Airplanes on which LH (left-hand) and RH (right-hand) wing main landing gear (MLG) rib 5 forward lugs have oversized interference fit bushings installed per Airbus Repair Instruction R57240221.

(2) Model A300 B4-103, B4-203, and B4-2C airplanes on which Airbus Mandatory Service Bulletin A300-57-0249 has been done in service on the LH and RH wing.

(3) Model A300-600 series airplanes on which Airbus Mandatory Service Bulletin A300-57-6106 has been done in service on the LH and RH wing.

(d) Subject

Air Transport Association (ATA) of America Code 57: Wings.

(e) Reason

This AD was prompted by reports of cracking in the forward lug of the MLG rib 5 aft bearing attachment. We are issuing this AD to detect and correct cracking of the LH and RH wing MLG rib 5 aft bearing forward lugs, which could affect the structural integrity of the MLG attachment, resulting in MLG collapse during landing or rollout with consequent damage to the airplane and injury to occupants.

(f) Compliance

You are responsible for having the actions required by this AD performed within the compliance times specified, unless the actions have already been done.

(g) Inspections

Except as provided by paragraph (h) of this AD, before the accumulation of 12,000 total flight cycles since new, or within 12,000 flight cycles since the most recent MLG rib 5 replacement, if applicable, or within 10 days after the effective date of this AD, whichever occurs latest: Do a detailed inspection or an ultrasonic inspection for cracking of the LH and RH MLG rib 5 aft bearing forward lugs, in accordance with the Accomplishment Instructions of Airbus Mandatory Service Bulletin A300-57-0251, including Appendix 01, dated August 8, 2007 (for Model A300 B4-103, B4-203, and B4-2C airplanes); or Airbus Mandatory Service Bulletin A300-57-6107, including Appendix 01, dated August 8, 2007 (for Model A300-600 series airplanes). Repeat the applicable inspections thereafter at the applicable interval specified in paragraph (g)(1) or (g)(2) of this AD, until the modification specified in paragraph (j) of this AD is accomplished.

(1) Repeat the detailed inspections at intervals not to exceed 100 flight cycles.

(2) Repeat the ultrasonic inspections at intervals not to exceed 675 flight cycles.

(h) Exception

For airplanes on which an inspection required by AD 2007-03-18, Amendment 39-14929 (72 FR 5919, February 8, 2007), has been done as of the effective date of this AD: Within 100 flight cycles after doing the most recent inspection required by AD 2007-03-18, or within 10 days after the effective date of this AD, whichever occurs later, do a detailed or ultrasonic inspection as specified in paragraph (g) of this AD. Repeat the applicable inspection thereafter at the times specified in paragraph (g) of this AD.

(i) Repair

If any cracking is detected during any detailed or ultrasonic inspection of the LH and RH MLG rib 5 aft bearing forward lugs required by paragraph (g) of this AD, before further flight, repair using a method approved by either the Manager, International Branch, ANM-116, Transport Airplane Directorate, FAA; or the European Aviation Safety Agency (EASA) (or its delegated agent).

(j) Optional Terminating Modification

Performing the applicable actions specified in paragraphs (j)(1), (j)(2), (j)(3) and (j)(4) of this AD, in accordance with the Accomplishment Instructions of Airbus Mandatory Service Bulletin A300-57-0249, Revision 02, dated June 18, 2010 (for Model A300 B4-103, B4-203, and B4-2C airplanes); or Airbus Mandatory Service Bulletin A300-57-6106, Revision 03, dated January 26, 2012 (for Model A300-600 series airplanes); terminates the repetitive inspections required by this AD.

(1) Perform a general visual inspection and dye penetrant flaw detection inspection for corrosion and damage of the bore and spotfaces of the lug.

(2) Determine that the diameter of the bore of the lug (dimension Y) is within the tolerance specified in the Accomplishment Instructions of Airbus Mandatory Service Bulletin A300-57-0249, Revision 02, dated June 18, 2010 (for Model A300 B4-103, B4-203, and B4-2C airplanes); or Airbus Mandatory Service Bulletin A300-57-6106, Revision 03, dated January 26, 2012 (for Model A300-600 series airplanes).

(3) If damage or corrosion is detected during any inspection specified in paragraph (j)(1) of this AD, or if dimension Y is outside the tolerance specified in the Accomplishment Instructions of Airbus Mandatory Service Bulletin A300-57-0249, Revision 02, dated June 18, 2010 (for Model A300 B4-103, B4-203, and B4-2C airplanes); or Airbus Mandatory Service Bulletin A300-57-6106, Revision 03, dated January 26, 2012 (for Model A300-600 series airplanes); repair using a method approved by either the Manager, International Branch, ANM-116, Transport Airplane Directorate, FAA; or the EASA (or its delegated agent).

(4) Install bushings with an increased interference fit in the aft bearing forward lugs, in accordance with the Accomplishment Instructions of Airbus Mandatory Service Bulletin A300-57-0249, Revision 02, dated June 18, 2010 (for Model A300 B4-103, B4-203, and B4-2C airplanes); or Airbus Mandatory Service Bulletin A300-57-6106, Revision 03, dated January 26, 2012 (for Model A300-600 series airplanes).

(k) Terminating Action for AD 2007-03-18, Amendment 39-14929 (72 FR 5919, February 8, 2007)

Doing the actions required by paragraph (j) of this AD terminates the requirements of AD 2007-03-18, Amendment 39-14929 (72 FR 5919, February 8, 2007), for that airplane.

(l) Reporting

Submit a report (including both positive and negative findings), using the applicable report sheet attached to Airbus Mandatory Service Bulletin A300-57-0251, including Appendix 01, dated August 8, 2007 (for Model A300 B4-103, B4-203, and B4-2C airplanes); or Airbus Mandatory Service Bulletin A300-57-6107, including Appendix 01, August 8, 2007 (for Model A300-600 series airplanes); of the first inspection required by paragraph (g) of this AD. Submit the report to Airbus, Customer Services Directorate, 1 Rond Point Maurice Bellonte, 31707 Blagnac Cedex France, Attn: SEDCC1 Technical Data and Documentation Services; fax: (+33) 5 61 93 28 06; email: sb.reporting@airbus.com; at the applicable time specified in paragraph (l)(1) or (l)(2) of this AD.

(1) If the inspection was done on or after the effective date of this AD: Submit the report within 30 days after the inspection.

(2) If the inspection was done before the effective date of this AD: Submit the report within 30 days after the effective date of this AD.

(m) Credit for Previous Actions

This paragraph provides credit for the actions specified by paragraph (j) of this AD, if those actions were performed before the effective date of this AD using the applicable service bulletins specified in paragraphs (m)(1), (m)(2), (m)(3), (m)(4), and (m)(5) of this AD.

(1) Airbus Service Bulletin A300-57-0249, dated May 22, 2007 (for Model A300 B4-2C, B4-103, and B4-203 airplanes).

(2) Airbus Service Bulletin A300-57-0249, Revision 01, dated December 19, 2007 (for Model A300 B4-2C, B4-103, and B4-203 airplanes).

(3) Airbus Service Bulletin A300-57-6106, dated May 22, 2007 (Model A300 B4-601, B4-603, B4-605R, B4-620, B4-622, B4-622R, F4-605R, F4-622R, and C4-605R Variant F airplanes).

(4) Airbus Service Bulletin A300-57-6106, Revision 01, dated January 28, 2008 (Model A300 B4-601, B4-603, B4-605R, B4-620, B4-622, B4-622R, F4-605R, F4-622R, and C4-605R Variant F airplanes).

(5) Airbus Service Bulletin A300-57-6106, Revision 02, dated June 18, 2010 (Model A300 B4-601, B4-603, B4-605R, B4-620, B4-622, B4-622R, F4-605R, F4-622R, and C4-605R Variant F airplanes).

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to Attn: Dan Rodina, Aerospace Engineer, International Branch, ANM-116, Transport Airplane Directorate, FAA, 1601 Lind Avenue SW., Renton, Washington 98057-3356; telephone (425) 227-2125; fax (425) 227-1149. Information may be emailed to: 9-ANM-116-AMO-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(o) Related Information

Refer to MCAI EASA Airworthiness Directive 2010-0250, dated November 29, 2010, and the service information specified in paragraphs (o)(1), (o)(2), (o)(3), and (o)(4) of this AD, for related information.

(1) Airbus Mandatory Service Bulletin A300-57-0249, Revision 02, dated June 18, 2010.

(2) Airbus Mandatory Service Bulletin A300-57-0251, including Appendix 01, dated August 8, 2007.

(3) Airbus Mandatory Service Bulletin A300-57-6106, Revision 03, dated January 26, 2012.

(4) Airbus Mandatory Service Bulletin A300-57-6107, including Appendix 01, August 8, 2007.

(p) Material Incorporated by Reference

(1) The Director of the Federal Register approved the incorporation by reference (IBR) of the following service information under 5 U.S.C. 552(a) and 1 CFR part 51.

(2) You must use the following service information to do the actions required by this AD, unless the AD specifies otherwise.

(i) Airbus Mandatory Service Bulletin A300-57-0249, Revision 02, dated June 18, 2010.

(ii) Airbus Mandatory Service Bulletin A300-57-0251, including Appendix 01, dated August 8, 2007.

(iii) Airbus Mandatory Service Bulletin A300-57-6106, Revision 03, dated January 26, 2012.

(iv) Airbus Mandatory Service Bulletin A300-57-6107, including Appendix 01, August 8, 2007.

(3) For service information identified in this AD, contact Airbus SAS-EAW (Airworthiness Office), 1 Rond Point Maurice Bellonte, 31707 Blagnac Cedex, France; telephone +33 5 61 93 36 96; fax +33 5 61 93 44 51; email: account.airworth-eas@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on July 23, 2012.
Kalene C. Yanamura,
Acting Manager, Transport Airplane Directorate, Aircraft Certification Service.

[FR Doc. 2012-18621 Filed 8-6-12; 8:45 am]

BILLING CODE 4910-13-P